DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Lavacot Locomotive Works, Inc.

Docket Number FRA-2008-0021

Lavacot Locomotive Works, Inc. (LLW) requests a waiver from the requirement of 49 CFR Section 224.103(b), Characteristics of Retroreflective Sheeting; Color. LLW requests that it be permitted to use the color red instead of yellow to comply with this rule.

LLW owns two ex-Southern Pacific Railroad (SP) SD-9 type locomotives, which are occasionally leased and used by the Portland & Western Railroad in freight service. The Albany & Eastern Railroad and the Port of Tillamook Bay Railroad also have used them. All three of these railroads are shortlines located in northwestern Oregon. When the locomotives were last in SP service, they were numbered SP 4364 and 4433. When delivered from the builder, they were identified as SP 5399 and 5426, respectively. These locomotives were built in 1955 and rebuilt by SP in the 1970s.

Wishing to acknowledge the historic heritage of these locomotives, LLW has returned the ex-SP 4364 to its, as built, “Black Widow” livery and original number of 5399. LLW intends to repaint and renumber 4433 similarly. The Black Widow paint scheme consists of a black car body with silver ends and a 9-inch red side frame stripe immediately below the walkway. The front end, in addition to the silver painted nose, has a horizontal silver side stripe above two orange stripes, all trailing back toward the cab. The trucks are painted silver.

Title 49 CFR Part 224, Reflectorization of Rail Freight Rolling Stock (Final Rule), does not provide a mechanism for facilitating the application of historically correct paint schemes to antique or historic rail equipment. LLW states in its request for relief that they recognize the importance of the visibility issue addressed by the rule and proposes to substitute reflectorized red material meeting the same standards, as required by 49 CFR Section 224.103(b). LLW states that red reflectorized material is widely used for safety in such applications as striping on grade crossing gate arms. Also, the trucks of the locomotives are painted silver to enhance visibility.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0021) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on April 7, 2008.
Grady C. Cothen, Jr.,
Deputy Associate Administrator for Safety Standards and Program Development.

[FR Doc. E8-7682 Filed 4-10-08; 8:45 am]

BILLING CODE 4910-06-P